FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices acquire control of 21.51 percent of Community First Bancshares, Inc., Union City, Tennessee (“Bancshares”), and the Kirkland family control group will acquire control of 25.82 percent of Bancshares.of the Board of Governors. Comments must be received not later than September 15, 2009.

A. Federal Reserve Bank of Chicago (Colette A. Fried, Assistant Vice President) 230 South LaSalle Street, Chicago, Illinois 60690-1414:

1. Gary Shiffman, West Bloomfield, Michigan; Arthur Weiss, Farmington Hills, Michigan; Ronald Klein, Bloomfield Hills, Michigan; Paul Hodges, Orchard Lake, Michigan; Roman Ferber, West Bloomfield, Michigan; David Freidman, West Bloomfield, Michigan; Steven Freidman, West Bloomfield, Michigan; Brian Wenzel, Howell, Michigan; Sheldon Yellen, Bloomfield Hills, Michigan; Gary Torgow, Oak Park, Michigan; Dov Loketch, Oak Park, Michigan; Joseph Nusbaum, Oak Park, Michigan; David Provost, Birmingham, Michigan; Max Berlin, Southfield, Michigan; Donald Coleman, Bonita Springs, Florida; Albert Papa, Birmingham, Michigan; Robert Naftaly, West Bloomfield, Michigan; Thomas Schellenberg, Cross Village, Michigan; Thomas Brown, Farmington Hills, Michigan; Christine Otto, Oxford, Michigan; James Dunn, Livonia, Michigan; Gary Sakwa, Bloomfield Hills, Michigan; Frank Hennessey, Ocala, Florida; Christine Provost, Birmingham, Michigan; Scott Steigerwald, Bloomfield Hills, Michigan; Stephen Eick, Birmingham, Michigan; Jeffrey Grabiel, Birmingham, Michigan; David Lau, Bloomfield Hills, Michigan; Jeffrey Peck, Orchard Lake, Michigan; Lawrence Wolfe, Bloomfield Hills, Michigan; Patrick Ervin, Ortonville, Michigan; Thomas Ervin, Bloomfield Hills, Michigan; Nancy Ervin, Bloomfield Hills, Michigan; Mark Thompson, Grosse Point Farms, Michigan; JoAnne Thompson, Grosse Pointe Farms, Michigan; and Daniel Samson, Huntington Woods, Michigan, to acquire over 25 percent of the outstanding voting shares of First Michigan Bancorp, Inc., Troy, Michigan, and thereby to indirectly acquire control of First Michigan Bank, Troy, Michigan.

B. Federal Reserve Bank of St. Louis (Glenda Wilson, Community Affairs Officer) 411 Locust Street, St. Louis, Missouri 63166-2034:

1. Robert E. Kirkland, Union City, Tennessee, individually and as member of the Kirkland family control group, which consists of himself; REK, LP, Union City, Tennessee; the Christopher R. Kirkland Revocable Trust (Christopher R. Kirkland as trustee), Brentwood, Tennessee; Bedford F. Kirkland, Lebanon, Tennessee; and Macy Darnell Swensson, Cincinnatti, Ohio. Robert E. Kirkland will individually, acquire control of 21.51 percent of Community First Bancshares, Inc., Union City, Tennessee (“Bancshares”), and the Kirkland family control group will acquire control of 25.82 percent of Bancshares.

Board of Governors of the Federal Reserve System, August 27, 2009.
Robert deV. Frierson,
Deputy Secretary of the Board.

[FR Doc. E9-21090 Filed 9-1-09; 8:45 am]

BILLING CODE 6210-01-S